FEDERAL MARITIME COMMISSION

Ocean Transportation Intermediary License; Reissuance

Notice is hereby given that the following Ocean Transportation Intermediary licenses have been reissued by the Federal Maritime Commission pursuant to section 19 of the Shipping Act of 1984 (46 U.S.C. Chapter 409) and the regulations of the Commission pertaining to the licensing of Ocean Transportation Intermediaries, 46 CFR part 515.

License No. | Name/address | Date reissued
3512F | Urie Transportation Management, Incorporated dba U.S. Northwest Express dba USNW Express, 5150 Village Park Drive, SE., Suite 100, Bellevue, WA 98006 | August 22, 2011.
016728F | Marushin Group, Inc., 2720 Monterey Street, Suite 405, Torrance, CA 90503 | August 4, 2011.
019746N | Carmen Cargo Express Inc., 2130 SW. 58th Way, West Park, FL 33023 | August 25, 2011.
021094F | Amid Logistics, LLC, 10 Florida Park Drive, N., Suite D-1A, Palm Coast, FL 32137 | May 23, 2011.
021781N | T.V.L. Global Logistics Corp., 9550 Flair Drive, Suite 501, El Monte, CA 91731 | August 24, 2011.
022554F | Saheed Olalekan Bello dba Sahbell International Services, 8180 Southwest Freeway, Houston, TX 77074 | July 13, 2011.

Sandra L. Kusumoto,
Director, Bureau of Certification and Licensing.

[FR Doc. 2011-25912 Filed 10-6-11; 8:45 am]

BILLING CODE 6730-01-P